DEPARTMENT OF THE TREASURY

Internal Revenue Service

26 CFR Part 1

Income Taxes

CFR Correction

This rule is being published by the Office of the Federal Register to correct an editorial or technical error that appeared in the most recent annual revision of the Code of Federal Regulations.

In Title 26 of the Code of Federal Regulations, Part 1 (§§ 1.410 to 1.440), revised as of April 1, 2024, in section 1.430(h)(2)-1, remove paragraph (ii) immediately following paragraph (b)(2).

[FR Doc. 2024-20701 Filed 9-10-24; 8:45 am]

BILLING CODE 0099-10-P